DEPARTMENT OF HEALTH AND HUMAN SERVICES

Centers for Disease Control and Prevention

[Docket Number NIOSH-036]

AGENCY: The National Institute for Occupational Safety and Health (NIOSH) of the Centers for Disease Control and Prevention (CDC), Department of Health and Human Services (HHS).

ACTION: Notice of public meeting.

Meeting Date and Time: Tuesday, June 26, 2007, opening session will begin at 9 a.m. EDT and the meeting will adjourn in mid-afternoon. Registration will be held from 8 a.m. to 9 a.m.

Place: The Embassy Suites Pittsburgh International Airport, 550 Cherrington Parkway, Coraopolis, Pennsylvania 15108.

SUMMARY: The NIOSH National Personal Protective Technology Laboratory (NPPTL) will hold a public meeting to discuss a proposed Total Inward Leakage (TIL) program for half-mask air-purifying particulate filtering respirator certification with plans to later include similar requirements for all respirator certifications.

Purpose: Recent trends in the field of personal protective equipment (PPE) testing have focused on the need to effectively evaluate PPE systems performance for TIL under laboratory conditions. While TIL testing performed under laboratory conditions does not necessarily reflect expected actual field level PPE performance, it does represent a criterion for performance that influences PPE design. TIL testing is intended to quantify the ability of respirators to fit a range of individuals; however, it is not intended to replace individual fit testing as mandated by the Occupational Safety and Health Administration (OSHA).

Status: This meeting will be open to the public, limited only by the space available. The meeting room will accommodate approximately 75 people. Interested parties should make hotel reservations directly with the Embassy Suites Hotel at 412-269-9070 (ask for Lauren) before the cut-off date of June 11, 2007. A special group rate of $100 per night for meeting guests has been negotiated for this meeting. The NIOSH-NPPTL Public Meeting must be referenced to receive this rate.

Interested parties should confirm their attendance to this meeting by completing a registration form and forwarding it by e-mail (npptlevents@cdc.gov) or fax (304-225-2003) to the NPPTL Event Management Office. A registration form may be obtained from the NIOSH Homepage (http://www.cdc.gov/niosh) by selecting conferences and then the event.

ADDRESSES: Comments on the topics presented in this notice and at the meeting should be mailed to: NIOSH Docket Office, Robert A. Taft Laboratories, M/S C34, 4676 Columbia Parkway, Cincinnati, Ohio 45226, telephone 513-533-8303, fax 513-533-8285. Comments may also be submitted by e-mail to niocindocket@cdc.gov. E-mail attachments should be formatted in Microsoft Word.

Comments regarding the TIL program should reference Docket Number NIOSH-036.

FOR FURTHER INFORMATION CONTACT: NPPTL Event Management, 3604 Collins Ferry Road, Suite 100, Morgantown, West Virginia 26505-2353, Telephone 304-225-5138, Fax 304-225-2003, E-mail npptlevents@cdc.gov.

Dated: May 21, 2007.
James D. Seligman,
Chief Information Officer, Centers for Disease Control and Prevention.

[FR Doc. E7-10219 Filed 5-25-07; 8:45 am]

BILLING CODE 4163-18-P